SURFACE TRANSPORTATION BOARD

[Docket No. FD 36094]

Itawamba Mississippian Railroad, LLC—Lease and Operation Exemption—Itawamba County Railroad Authority

Itawamba Mississippian Railroad, LLC (IMR), a noncarrier, has filed a verified notice of exemption under 49 CFR 1150.31 to lease from the Itawamba County Railroad Authority (ICRA), a noncarrier and political subdivision of the State of Mississippi, and to operate, a 25-mile rail line, known as the Mississippian Railway, between milepost 0.0 in Amory, Miss., and milepost 25.0 in Fulton, Miss. (the Line).

This transaction is related to a concurrently filed verified notice of exemption in Itawamba County Railroad Authority—Acquisition Exemption—Mississippian Railway, Docket No. FD 36093, in which ICRA seeks Board approval under 49 CFR 1150.31 to acquire the Line from the Itawamba County Port Commission (ICPC). IMR and ICRA have entered into a five-year lease agreement under which IMR will lease and operate the Line.

IMR certifies that the projected annual revenues as a result of this transaction will not result in IMR's becoming a Class I or Class II rail carrier and will not exceed $5 million. IMR certifies also that the lease between IMA and ICRA does not involve any provision or agreement that would limit future interchange of traffic with a third-party connecting carrier.

The proposed transaction may be consummated on or after February 18, 2017, the effective date of this exemption (30 days after the verified notice was filed). If the verified notice contains false or misleading information, the exemption is void ab initio. Petitions to revoke the exemption under 49 U.S.C. 10502(d) may be filed at any time. The filing of a petition to revoke will not automatically stay the effectiveness of the exemption. Petitions to stay must be filed by February 10, 2017 (at least seven days before the exemption becomes effective).

An original and 10 copies of all pleadings, referring to Docket No. FD 36094, must be filed with the Surface Transportation Board, 395 E Street SW., Washington, DC 20423-0001. In addition, a copy of each pleading must be served on applicant's representative, Rodney M. Love, Mississippi Department of Transportation, 401 North West Street, Suite 9500, Jackson, MS 39201.

According to IMR, this action is categorically excluded from environmental reporting under 49 CFR 1105.6(c).

Board decisions and notices are available on our Web site at “WWW.STB.GOV.”

Decided: January 30, 2017.
By the Board, Rachel D. Campbell, Director, Office of Proceedings.
Kenyatta Clay,
Clearance Clerk.

[FR Doc. 2017-02293 Filed 2-2-17; 8:45 am]

BILLING CODE 4915-01-P